DEPARTMENT OF THE TREASURY

Fiscal Service

31 CFR Part 356

Sale and Issue of Marketable Book-Entry Treasury Bills, Notes and Bonds— Plain Language Uniform Offering Circular

Correction

In rule document 04-17012 beginning on page 45202 in the issue of July 28, 2004, make the following corrections:

Appendix B to Part 356 [Corrected]

1. On page 45218, in the third column, the seventh equation should read:

an⌉ = (1 − vⁿ) / (i/2) = v + v² + v³ + ... + vⁿ = present value of 1 per period for n periods

2. On page 45219, in the first column, after paragraph C., under Definitions, the seventh equation should read:

vⁿ = 1 / (1+.0853/2)¹⁰, or .658589

3. On page 45220, in the first column, under Definitions, the 16th equation should read:

SA = Padj + Aadj

[FR Doc. C4-17012 Filed 8-27-04; 8:45 am]

BILLING CODE 1505-01-D